DEPARTMENT OF AGRICULTURE

Food and Nutrition Service

Agency Information Collection Activities: Special Supplemental Nutrition Program for Women, Infants, and Children (WIC) Farmers' Market Nutrition Program (FMNP)—Reporting and Recordkeeping Burden

AGENCY: Food and Nutrition Service (FNS), Department of Agriculture (USDA).

ACTION: Notice.

SUMMARY: In accordance with the Paperwork Reduction Act of 1995 (PRA), this notice invites the general public and other public agencies to comment on this proposed information collection. This collection is a revision of a currently approved collection for the reporting and recordkeeping burden associated with the Special Supplemental Nutrition Program for Women, Infants, and Children (WIC) Farmers' Market Nutrition Program (FMNP) regulations.

DATES: Written comments must be received on or before February 5, 2024.

ADDRESSES: The Food and Nutrition Service, USDA, invites interested persons to submit written comment.

• Preferred Method: Federal eRulemaking Portal. Go to http://www.regulations.gov and follow the online instructions for submitting comments electronically.

• Mail: Allison Post, Food and Nutrition Service, U.S. Department of Agriculture, 1320 Braddock Place, Room 328, Alexandria, VA 22302.

• Email: Send email to allison.post@usda.gov.

All responses to this notice will be summarized and included in the request for Office of Management and Budget (OMB) approval. All comments will be a matter of public record.

FOR FURTHER INFORMATION CONTACT: Requests for additional information or copies of this information collection should be directed to Allison Post at 703-457-7708.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Special Supplemental Nutrition Program for Women, Infants, and Children (WIC) Farmers' Market Nutrition Program (FMNP)—Reporting and Recordkeeping Burden.

Form Number: FNS-683B (under OMB Control Number 0584-0594) is associated with this collection.

OMB Number: 0584-0447.

Expiration Date: August 31, 2024.

Type of Request: Revision of a currently approved collection.

Abstract: The WIC Farmers' Market Nutrition Program (FMNP) is associated with the Special Supplemental Nutrition Program for Women, Infants, and Children, also known as WIC. WIC provides supplemental foods, health care referrals, and nutrition education at no cost to low-income pregnant, breastfeeding, and non-breastfeeding post-partum individuals, infants, and children up to 5 years of age at nutritional risk. The purpose of FMNP is to provide fresh, nutritious, unprepared, locally grown fruits and vegetables through farmers' markets and roadside stands to WIC participants, and to expand awareness and use of, and sales at, farmers' markets and roadside stands. Currently, FMNP operates through State health departments in 41 States, 7 Indian Tribal Organizations, District of Columbia, Puerto Rico, and the U.S. Virgin Islands.

Section 17(m)(8) of the Child Nutrition Act of 1966 (42 U.S.C. 1786(m)(8)), and FMNP regulations at 7 CFR part 248 require that certain program-related information be collected and that full and complete records concerning FMNP operations are maintained. The information reporting and recordkeeping burdens are necessary to ensure appropriate and efficient management of FMNP. The burden activities that are covered by this Information Collection Request (ICR) include requirements that involve the authorization and monitoring of State agencies; the certification of FMNP participants; the nutrition education that is provided to participants; farmer and market authorization, monitoring, and management; and financial and participation data.

State Plans are the principal source of information about how each State agency operates FMNP. Information from participants and local agencies is collected through State agency-developed forms or Management Information Systems (MIS). The information collected is used by the Department of Agriculture/Food and Nutrition Service to manage, plan, evaluate, make decisions and report on FMNP operations. Along with State Plans, State agencies also submit the Federal-State Supplemental Nutrition Programs Agreements (FNS-339), for which the associated reporting and recordkeeping burden is approved under OMB Control Number: 0584-0332, Expiration Date: 06/30/2025. Additionally, FMNP financial and participation data are collected using the WIC Farmers Market Nutrition Program (FMNP) Annual Financial and Program Data Report (FNS 683B), for which the form and its associated reporting burden are approved under OMB Control Number: 0584-0594 Food Programs Reporting System (FPRS), Expiration Date: 09/30/2026. Recordkeeping burden associated with form FNS 683B is not approved under OMB Control Number 0584-0594. State agencies must maintain records in order to support data reported in FPRS, and the recordkeeping burden for such record maintenance is captured in this ICR, OMB Control Number: 0584-0447.

This information collection is requesting a revision in the burden hours due to program changes resulting from FMNP State agencies transitioning from paper coupon systems to electronic benefit systems, as well as one existing requirement that has been in use without PRA approval. The requested revisions in this information collection also reflect program adjustments to account for changes in the number of FMNP participants, FMNP authorized outlets, and FMNP State and local agencies.

The currently approved burden for this collection is 1,640,906 hours. FNS estimates the new burden at 1,175,580 burden hours, which is a decrease of 465,326 hours. The currently approved total annual responses are 4,909,194. FNS estimates the new number of responses at 4,148,625, which is a decrease of 760,569 total annual responses.

Affected Public: Individuals/Households, Business or Other For Profit; Not For Profit; State, Local, and Tribal Government. Respondent groups identified include: (1) FMNP participants who are women, infants, and children participating in the WIC Program; (2) authorized FMNP outlets which are farmers, farmers' markets, and roadside stands; (3) nonprofit businesses operating as local agencies; and (4) local and State agencies (including geographic States, U.S. Territories, and Indian Tribal Organizations (ITOs)) administering FMNP.

Estimated Number of Respondents: The total estimated number of respondents is 1,351,492. This includes 51 State agencies, 769 local agencies, 1,330,746 individuals/households (FMNP participants), 329 nonprofit businesses, and 19,597 authorized FMNP outlets (farmers, farmers' markets, roadside stands).

Estimated Number of Responses per Respondent: The total estimated number of responses per respondent for this collection is 3.07.

Estimated Total Annual Responses: 4,148,625. The estimated total for reporting is 2,814,962 while the estimate total for recordkeeping is 1,333,663.

Estimated Time per Response: The estimated time per response averages approximately 17 minutes (0.28 hours) for all respondents. For the reporting burden, the estimated time per response varies from 3 minutes to 40 hours, while the estimated time per response for the recordkeeping burden varies from 10 minutes to 40 hours, depending on the requirement.

Estimated Total Annual Burden on Respondents: 1,175,580 hours. The estimated total reporting burden is 839,123 hours while the estimated total recordkeeping burden is 336,457 hours.

See the table below for the estimated total annual burden for each type of respondent.

Estimate of the Collection of Information Burden Table
Regulatory section | Information collected | Form(s) | Estimated number of respondents | Annual responses per respondent | Total annual responses | Hours per response | Total annual burden hours
REPORTING BURDEN ESTIMATES
Affected Public: STATE & LOCAL AGENCIES (Including Indian Tribal Organizations and U.S. Territories)
248.3(e), 246.5 | Local Agency Applications |  | 768.60 | 0.50 | 384.30 | 2.00 | 768.60
248.4 | State Plan |  | 51.00 | 1.00 | 51.00 | 40.00 | 2,040.00
248.6, 248.10(i) | Certification Data for Participants |  | 51.00 | 26,093.06 | 1,330,746.00 | 0.25 | 332,686.50
248.10(a)(2),(3),(b),(c) | Authorization—Review of Outlet Applications (Farmers, Farmers' Market, Roadside Stand) |  | 51.00 | 192.13 | 9,798.50 | 0.25 | 2,449.63
248.10(a)(4)(d) | Face-to-Face Training Development |  | 51.00 | 1.00 | 51.00 | 8.00 | 408.00
248.10(a)(4)(d) | Face-to-Face Training |  | 51.00 | 15.00 | 765.00 | 2.00 | 1,530.00
248.10(b)(5) | Disqualification of Authorized Outlets |  | 5.00 | 1.00 | 5.00 | 0.08 | 0.42
248.10(d) | Annual Training for Authorized Outlets Development |  | 51.00 | 1.00 | 51.00 | 8.00 | 408.00
248.10(d) | Annual Training for Authorized Outlets |  | 51.00 | 15.00 | 765.00 | 2.00 | 1,530.00
248.10(e)(2),(3); 248.17(c)(1)(i) | Monitoring/Review of Authorized Outlets |  | 51.00 | 38.43 | 1,959.70 | 1.50 | 2,939.55
248.10(e)(4); 248.17(c)(1)(ii) | Monitoring/Review of Local Agencies |  | 51.00 | 10.76 | 549.00 | 2.00 | 1,098.00
248.10(f) | Coupon Management System |  | 51.00 | 1.00 | 51.00 | 5.00 | 255.00
248.10(h) | Coupon Reconciliation |  |  |  |  |  | 115.50
248.10(h) | Paper Coupon Reconciliation |  | 26.00 | 1.00 | 26.00 | 3.00 | 78.00
248.10(h) | Electronic Benefit Reconciliation |  | 25.00 | 1.00 | 25.00 | 1.50 | 37.50
248.10(j) | Recipients and Authorized Outlet Complaints |  | 51.00 | 9.67 | 493.00 | 1.00 | 493.00
248.10(k) | Farmer/farmers' market sanctions |  | 51.00 | 7.69 | 391.94 | 0.08 | 32.73
248.11(a) | Disclosure of Financial Expenditures |  | 51.00 | 1.00 | 51.00 | 10.00 | 510.00
248.12(a)(2) | Prior approval for cost items per 2 CFR part 200, subpart E, and 2 CFR parts 400 and 415 |  | 5.00 | 1.00 | 5.00 | 40.00 | 200.00
248.17(a) | Establishment of ME System |  | 1.00 | 1.00 | 1.00 | 24.00 | 24.00
248.17(b)(2)(ii) | State Agency Corrective Action Plan |  | 7.00 | 1.00 | 7.00 | 10.00 | 70.00
248.17(c)(2) | Special Reports |  | 2.00 | 1.00 | 2.00 | 10.00 | 20.00
248.18(b) | Audit Responses |  | 1.00 | 1.00 | 1.00 | 15.00 | 15.00
Subtotal Reporting: State and Local Agencies (Including Indian Tribal Organizations and U.S. Territories) |  |  | 819.60 | 1,642.48 | 1,346,179.44 | 0.26 | 347,593.92
Affected Public: INDIVIDUALS/HOUSEHOLDS (Applicants for Program Benefits)
248.6, 248.10(i) | Certification Data for Participants |  | 1,330,746.00 | 1.00 | 1,330,746.00 | 0.05 | 66,670.37
Subtotal Reporting: Individuals/Households |  |  | 330,746.00 | 1.00 | 330,746.00 | 0.05 | 66,670.37
Affected Public: Authorized Outlets (Farmers/Markets/Roadside Stands) and Businesses
248.3(e), 246.5 | Non-profit businesses Applications |  | 329.40 | 0.50 | 164.70 | 2.00 | 329.40
248.10(a)(4)(d) | Face-to-Face Training |  | 1,959.70 | 1.00 | 1,959.70 | 2.00 | 3,919.40
248.10(b)(1)(xi) | Farmer/farmers' market complaints |  | 493.00 | 1.00 | 493.00 | 0.50 | 246.50
248.10(b),(c) | Authorized Outlet Agreements |  | 9,799 | 1.00 | 9,798.50 | 0.08 | 818.17
248.10(b)(5) | Appeal of Denial |  | 7.84 | 1.00 | 7.84 | 2.00 | 15.68
248.10(d) | Annual Training for Authorized Outlets |  | 17,637.30 | 1.00 | 17,637.30 | 2.00 | 35,274.60
248.10(e)(1) | Coupon Reimbursement |  |  |  |  |  | 384,254.90
248.10(e)(1) | Paper Coupon Reimbursement & Electronic Benefit Mail-In |  | 10,375 | 9.00 | 93,373.94 | 4.00 | 373,495.76
248.10(e)(1) | Electronic Benefit Reimbursement via Hybrid Processing |  | 769 | 9.00 | 6,916.59 | 1.00 | 6,916.59
248.10(e)(1) | Electronic Benefit Reimbursement via Electronic Processing |  | 7,685 | 1.00 | 7,685.10 | 0.50 | 3,842.55
Subtotal Reporting: Authorized outlets |  |  | 19,926.40 | 6.93 | 138,036.67 | 3.08 | 424,858.65
GRAND SUBTOTAL: REPORTING |  |  | 1,351,492.00 | 2.08 | 2,814,962.11 | 0.30 | 839,122.95
RECORDKEEPING BURDEN ESTIMATES
Affected Public: STATE & LOCAL AGENCIES (Including Indian Tribal Organizations and U.S. Territories)
248.4(c) | State Plan Record Maintenance |  | 51.00 | 1.00 | 51.00 | 0.17 | 8.52
248.9 | Nutrition Education |  | 51.00 | 26,093.06 | 1,330,746.00 | 0.25 | 332,686.50
248.10(a)(4),(d) | Authorized Outlet Training Content |  | 51.00 | 1.00 | 51.00 | 2.00 | 102.00
248.10(b),(c) | Authorized Outlet Agreements |  | 51.00 | 1.00 | 51.00 | 2.00 | 102.00
248.10(b)(5) | Maintenance of Disqualification and Sanction Records |  | 51.00 | 1.00 | 51.00 | 0.17 | 8.52
248.10(e)(2),(3); 248.17(c)(1)(i) | Monitoring and Review of Authorized Outlets |  | 51.00 | 38.43 | 1,959.70 | 0.50 | 979.85
248.10(e)(4); 248.17(c)(1)(ii) | Monitoring/Review of Local Agencies |  | 51.00 | 10.76 | 549.00 | 0.50 | 274.50
248.11(c) | Record of Financial Expenditures | FNS-683B | 51.00 | 1.00 | 51.00 | 2.00 | 102.00
248.16(a) | Fair Hearings |  | 51.00 | 1.00 | 51.00 | 1.00 | 51.00
248.17(a) | Maintenance of Management Evaluations |  | 51.00 | 1.00 | 51.00 | 2.00 | 102.00
248.23(a) | Record of Program Operations |  | 51.00 | 1.00 | 51.00 | 40.00 | 2,040.00
GRAND SUBTOTAL: RECORDKEEPING |  |  | 51.00 | 26,150.25 | 1,333,662.70 | 0.25 | 336,456.88
GRAND TOTAL: REPORTING AND RECORDKEEPING |  |  | 1,351,492.00 | 3.07 | 4,148,624.81 | 0.28 | 1,175,579.83
Note: FNS-683B, OMB Control Number: 0584-0594 Food Programs Reporting System (FPRS), Expiration Date: 09/30/2026.

Summary Table
| Estimated number respondents | Responses per respondent | Total annual responses | Estimated avg. number of hours per response | Estimated total hours (col. D × E)
Total Reporting Burden | 1,351,492.00 | 2.08 | 2,814,962.11 | 0.30 | 839,122.95
Total Recordkeeping Burden | 51.00 | 26,150.25 | 1,333,662.70 | 0.25 | 336,456.88
TOTAL BURDEN FOR #0584-0447 | 1,351,492.00 | 3.07 | 4,148,624.81 | 0.28 | 1,175,579.83

Tameka Owens,
Assistant Administrator, Food and Nutrition Service.

[FR Doc. 2023-26659 Filed 12-4-23; 8:45 am]

BILLING CODE 3410-30-P